DEPARTMENT OF THE INTERIOR

National Park Service

[NPS-WASO-COMP-NPS0033152; PPWOCOPP0, PPMPSD1YM0000 (255); OMB Control Number 1024-0279]

Agency Information Collection Activities; National Park Service Lost and Found Report

AGENCY: National Park Service, Interior.

ACTION: Notice of information collection; request for comment.

SUMMARY: In accordance with the Paperwork Reduction Act of 1995, we, the National Park Service (NPS) are proposing to renew an information collection without change.

DATES: Interested persons are invited to submit comments, which NPS must receive on or before October 14, 2025.

ADDRESSES: Written comments and suggestions on the information collection requirements should be submitted by the date specified above in DATES to https://www.reginfo.gov/public/do/PRAMain. Find this particular information collection by selecting “Currently under Review—Open for Public Comments” or by using the search function. Please provide a copy of your comments to the NPS Information Collection Clearance Officer (ADIR-ICCO), 13461 Sunrise Valley Drive, (MS-244) Reston, VA 20191 (mail); or phadrea_ponds@nps.gov (email). Please include “1024-0279” in the subject line of your comments.

FOR FURTHER INFORMATION CONTACT: Marlene Haynes, Office of Property and Fleet Management, National Park Service, 13461 Sunrise Valley Drive, Herndon, VA 20171-3272; or by email at marlene_haynes@nps.gov; or by telephone at 703-487-9311. Individuals in the United States who are deaf, deafblind, hard of hearing, or have a speech disability may dial 711 (TTY, TDD, or TeleBraille) to access telecommunications relay services. Individuals outside the United States should use the relay services offered within their country to make international calls to the point of contact in the United States. You may also view the ICR at https://www.reginfo.gov/public/do/PRAMain.

SUPPLEMENTARY INFORMATION: In accordance with the Paperwork Reduction Act of 1995 (PRA, 44 U.S.C. 3501et seq.) and 5 CFR 1320.8(d)(1), all information collections require approval under the PRA. We may not conduct or sponsor and you are not required to respond to a collection of information unless it displays a currently valid Office of Management and Budget (OMB) control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Each year, more than 7,000 visitors to the various units of the National Park System file reports of lost or found items. Reporting of lost or found personal property in national parks is governed by 36 CFR 2.22, “Disposition of Property,” which requires unattended property be impounded and deemed to be abandoned unless claimed by the owner or an authorized representative within 60 days. The 60-day period starts upon notification to the rightful owner of the property, if the owner can be identified; or from the time the property was placed in the superintendent's custody, if the owner cannot be identified.

Unclaimed property must be stored for a minimum period of 60 days. If the item is not claimed by the owner or an authorized representative with in the 60-day period, the property may be claimed by the finder, provided the finder is not an employee of the NPS. Found property not claimed by the owner, an authorized representative of the owner, or the finder, shall be deemed abandoned and disposed of in accordance with title 41 of the Code of Federal Regulations.

In order to comply with the requirements of 36 CFR 2.22, the Form 10-166, “Lost-Found Report,” is used by the park to identify personal property reported as lost or found and to return found items to the legitimate owner, or to the finder if the item is not claimed by the owner or their authorized representative. NPS Form 10-166 collects the following information from the visitor filing the report:

• Park name, receiving station (if appropriate), and date item was lost or found.

• Name, address, city, state, zip code, email address, and contact phone numbers (cell and home).

• Type of item, detailed description of item, and location where the item was last seen or found.

• Photograph of item (if available).

Title of Collection: National Park Service Lost and Found Report, 36 CFR 2.22.

OMB Control Number: 1024-0279.

Form Number: NPS Form 10-166 “Lost-Found Report.”

Type of Review: Extension of a currently approved collection.

Description of Respondents: Visitors of NPS units who file reports of lost or found items.

Total Estimated Number of Annual Respondents: 7,200.

Total Estimated Number of Annual Responses: 7,200.

Estimated Completion Time per Response: 5 minutes.

Total Estimated Number of Annual Burden Hours: 600 hours.

Respondent's Obligation: Voluntary

Frequency of Collection: On occasion.

Total Estimated Annual Non hour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2025-15545 Filed 8-14-25; 8:45 am]

BILLING CODE 4312-52-P